DEPARTMENT OF HOMELAND SECURITY

Federal Emergency Management Agency

[Docket ID FEMA-2020-0002; Internal Agency Docket No. FEMA-B-2071]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Goodyear (20-09-0477P). | The Honorable Georgia Lord, Mayor, City of Goodyear, 190 North Litchfield Road, Goodyear, AZ 85338. | Engineering and Development Services, 14455 West Van Buren Street, Suite D101, Goodyear, AZ 85338. | https://msc.fema.gov/portal/advanceSearch. | Jan. 15, 2021 | 040046
Maricopa | City of Scottsdale (20-09-0557P). | The Honorable W.J. “Jim” Lane, Mayor, City of Scottsdale, 3939 North Drinkwater Boulevard, Scottsdale, AZ 85251. | Planning Records, 7447 East Indian School Road, Suite 100, Scottsdale, AZ 85251. | https://msc.fema.gov/portal/advanceSearch. | Feb. 12, 2021 | 045012
Maricopa | Town of Fountain Hills (20-09-1429P). | The Honorable Ginny Dickey, Mayor, Town of Fountain Hills, 16705 East Avenue of the Fountains, Fountain Hills, AZ 85268. | Town Hall, 16705 East Avenue of the Fountains, Fountain Hills, AZ 85268. | https://msc.fema.gov/portal/advanceSearch. | Jan. 15, 2021 | 040135
Maricopa | Unincorporated Areas of Maricopa County (20-09-1429P). | The Honorable Clint L. Hickman, Chairman, Board of Supervisors, Maricopa County, 301 West Jefferson Street, Phoenix, AZ 85009. | Flood Control District of Maricopa County, 2801 Wets Durango Street, Phoenix, AZ 85009. | https://msc.fema.gov/portal/advanceSearch. | Jan. 15, 2021 | 040037
Yavapai | Town of Prescott Valley (20-09-0254P). | The Honorable Kell Palguta, Mayor, Town of Prescott Valley, Civic Center, 7501 East Skoog Boulevard, 4th Floor, Prescott Valley, AZ 86314. | Town Hall, Engineering Division, 7501 East Civic Circle, Prescott Valley, AZ 86314. | https://msc.fema.gov/portal/advanceSearch. | Jan. 27, 2021 | 040121
Yavapai | Unincorporated Areas of Yavapai County (20-09-0254P). | The Honorable Craig L. Brown, Chairman, Board of Supervisors, Yavapai County, 1015 Fair Street, Prescott, AZ 86305. | Yavapai County Flood Control District, 1120 Commerce Drive, Prescott, AZ 86305. | https://msc.fema.gov/portal/advanceSearch. | Jan. 27, 2021 | 040093
California: San Luis Obispo | City of El Paso de Robles (20-09-0780P). | The Honorable Steven W. Martin, Mayor, City of El Paso de Robles, 1000 Spring Street, Paso Robles, CA 93446. | City Hall, 1000 Spring Street, Paso Robles, CA 93446. | https://msc.fema.gov/portal/advanceSearch. | Feb. 18, 2021 | 060308
Hawaii: Honolulu | City and County of Honolulu (20-09-0544P). | The Honorable Kirk Caldwell, Mayor, City and County of Honolulu, 530 South King Street Room 306, Honolulu, HI 96813. | Department of Planning and Permitting, 650 South King Street 1st Floor, Honolulu, HI 96813. | https://msc.fema.gov/portal/advanceSearch. | Jan. 4, 2021 | 150001
Indiana: Hancock | Unincorporated Areas of Hancock County (20-05-0636P). | Mr. John Jessup, District 1, Hancock County Commissioner 111 South American Legion Place, Suite 219 Greenfield, IN 46140. | Hancock County Government Building, 111 South American Legion Place, Greenfield, IN 46140. | https://msc.fema.gov/portal/advanceSearch. | Feb. 4, 2021 | 180419
Kansas:
Johnson | City of Leawood (20-07-0997P). | The Honorable Peggy J. Dunn, Mayor, City of Leawood, 4800 Town Center Drive, Leawood, KS 66211. | City Hall, 4800 Town Center Drive, Leawood, KS 66211. | https://msc.fema.gov/portal/advanceSearch. | Feb. 10, 2021 | 200167
Leavenworth | City of Basehor (20-07-1354P). | The Honorable David Breuer, Mayor, City of Basehor, P.O. Box 406, Basehor, KS 66007. | City Hall, 2620 North 155th Street, Basehor, KS 66007. | https://msc.fema.gov/portal/advanceSearch. | Feb. 17, 2021 | 200187
Michigan: Wayne | Township of Huron (20-05-1619P). | Mr. David Glaab, Supervisor, Township of Huron, The Huron Township Office, 29950 Huron River Drive, New Boston, MI 48164. | Township of Huron, 29950 Huron River Drive, New Boston, MI 48164. | https://msc.fema.gov/portal/advanceSearch. | Feb. 18, 2021 | 260545
Missouri:
Jackson | City of Kansas City (20-07-0962P). | The Honorable Quinton Lucas, Mayor, City of Kansas City, City Hall, 414 East 12th Street, Kansas City, MO 64106. | Federal Office Building, 911 Walnut Street, Kansas City, MO 64106. | https://msc.fema.gov/portal/advanceSearch. | Oct. 6, 2020 | 290173
St. Louis | City of Bridgeton (20-07-0235P). | The Honorable Terry Briggs, Mayor, City of Bridgeton, 12355 Natural Bridge Road, Bridgeton, MO 63044. | Government Center, 12355 Natural Bridge Road, Bridgeton, MO 63044. | https://msc.fema.gov/portal/advanceSearch. | Feb. 26, 2021 | 290339
Nebraska: Lancaster | Unincorporated Areas of Lancaster County (19-07-1293P). | Mr. Sean Flowerday, Board Chair, Lancaster County County/City Building, 555 South 10th Street Room 110, Lincoln, NE 68508. | Lancaster County Building & Safety Department, 555 South 10th Street, Lincoln, NE 68508. | https://msc.fema.gov/portal/advanceSearch. | Feb. 16, 2021 | 310134
Nevada: Douglas | Unincorporated Areas of Douglas County (20-09-0629P). | The Honorable Barry Penzel, Chairman, Board of Commissioners, Douglas County, P.O. Box 218, Minden, NV 89423. | Douglas County, Community Development, 1594 Esmeralda Avenue, Minden, NV 89423. | https://msc.fema.gov/portal/advanceSearch. | Jan. 8, 2021 | 320008
New Jersey: Middlesex | Township of Old Bridge (20-02-1168X). | The Honorable Owen Henry, Mayor, Township of Old Bridge, Municipal Building, 1 Old Bridge Plaza, Old Bridge, NJ 08857. | Municipal Building, 1 Old Bridge Plaza, Old Bridge, NJ 08857. | https://msc.fema.gov/portal/advanceSearch. | Jan. 26, 2021 | 340265
Ohio: Fairfield | City of Lancaster (20-05-2575P). | The Honorable David L. Scheffler, City Hall, Mayor, City of Lancaster, 104 East Main Street, Room 101, Lancaster, OH 43130. | City Building Department, 121 East Chestnut Street, Lancaster, OH 43130. | https://msc.fema.gov/portal/advanceSearch. | Feb. 26, 2021 | 390161
Texas:
Collin | City of Frisco (19-06-1387P). | The Honorable Jeff Cheney, Mayor, City of Frisco, George A. Purefoy Municipal Center, 6101 Frisco Square Boulevard, Frisco, TX 75034. | George A. Purefoy Municipal Center, 6101 Frisco Square Boulevard, 3rd Floor, Frisco, TX 75034. | https://msc.fema.gov/portal/advanceSearch. | Feb. 22, 2021 | 480134
Denton | City of Carrollton (19-06-3346P). | The Honorable Kevin Falconer, Mayor, City of Carrollton, 1945 East Jackson Road Carrollton, TX 75006. | Engineering Department, 1945 East Jackson Road, Carrollton, TX 75006. | https://msc.fema.gov/portal/advanceSearch. | Feb. 4, 2021 | 480167
Denton | City of Lewisville (19-06-3346P). | The Honorable Rudy Durham, Mayor, City of Lewisville, 151 West Church Street Lewisville, TX 75057. | Engineering Division, 151 West Church Street, Lewisville, TX 75057. | https://msc.fema.gov/portal/advanceSearch. | Feb. 4, 2021 | 480195
Lamar | City of Paris (19-06-4007P). | The Honorable Dr. Steve Clifford, Mayor, City of Paris, P.O. Box 9037, Paris, TX 75461. | City Hall, 135 Southeast 1st Street, Paris, TX 75460. | https://msc.fema.gov/portal/advanceSearch. | Feb. 5, 2021 | 480427

[FR Doc. 2020-26054 Filed 11-24-20; 8:45 am]

BILLING CODE 9110-12-P